OFFICE OF PERSONNEL MANAGEMENT

Civil Service Retirement System Board of Actuaries Meeting

AGENCY: Office of Personnel Management.

ACTION: Notice of meeting.

SUMMARY: The Civil Service Retirement System Board of Actuaries plans to meet on Friday, July 24, 2015. The meeting will start at 10:00 a.m. EDT and will be held at the U.S. Office of Personnel Management (OPM), 1900 E Street NW., Room 1350, Washington, DC 20415.

The purpose of the meeting is for the Board to review the actuarial methods and assumptions used in the valuations of the Civil Service Retirement and Disability Fund (CSRDF). The Board will also review OPM's computation of the supplemental liability of the CSRDF with respect to current and former employees of the Postal Service in the Federal Employees Retirement System (FERS).

Agenda

1. Summary of recent and proposed legislation;

2. Review of actuarial assumptions;

3. Reconsideration of the Postal Service supplemental liability under FERS. Persons desiring to attend this meeting of the Civil Service Retirement System Board of Actuaries, or to make a statement for consideration at the meeting, should contact OPM at least 5 business days in advance of the meeting date at the address shown below. The manner and time for any material presented to the Board may be limited.

FOR FURTHER INFORMATION CONTACT: Gregory Kissel, Senior Actuary for Retirement Programs, U.S. Office of Personnel Management, 1900 E Street NW., Room 4307, Washington, DC 20415. Phone (202) 606-0722 or email at actuary@opm.gov.

For the Board of Actuaries.
Katherine Archuleta,
Director.

[FR Doc. 2015-16692 Filed 7-7-15; 8:45 am]

BILLING CODE 6325-63-P